DEPARTMENT OF HEALTH AND HUMAN SERVICES

Indian Health Service

Request for Public Comment: 60-Day Proposed Information Collection: Office of Urban Indian Health Programs Uniform Data System

AGENCY: Indian Health Service.

ACTION: Notice.

SUMMARY: In compliance with Section 3506(c)(2)(A) of the Paperwork Reduction Act of 1995 which requires 60 day advance opportunity for public comment on proposed information collection projects, the Indian Health Service (IHS) is publishing for comment a summary of a proposed information collection to be submitted to the Office of Management and Budget (OMB) for review.

Proposed Collection: Title: Office of Urban Indian Health Programs (OUIHP) Uniform Data System (UDS). Type of Information Collection Request: Initial request and four year extension, for data collection to ensure compliance with legislative mandates and report to Congress and policymakers on program accomplishments. Form Number(s): New data collection. There are currently no form numbers. Reporting formats are contained in the UDS Instruction Manual. Need and Use of Information Collection: The Uniform Data System (UDS) contains the annual reporting requirements for the cluster of primary health care and case management/outreach and referral grantees funded by the IHS. The UDS includes reporting requirements for grantees of the OUIHP. The authorizing statute is Title V of Public Law 94-437, of the Indian Health Care Improvement Act, as amended. IHS will collect data in the UDS which will be used to ensure compliance with the legislative mandates and report to Congress and policymakers on program accomplishments. To meet these objectives, the OUIHP requires a core set of data collected annually that is appropriate for monitoring and evaluating performance and reporting on annual trends. Affected Public: Title V funded Urban Indian health programs. Type of Respondents: Title V Urban Indian health programs.

The table below provides: Types of data collection instruments, Number of respondents, Response per respondent, Total annual responses, Average burden hour per response, and Total annual burden hours.

Data collection instrument(s) | Number of respondents | Responses per respondent | Total annual responses | Average burden hour per response * | Total annual burden hours
Universal Report | 34 | 1 | 34 | 8.00 (480 min) | 272
American Indian/Alaska Native Report | 34 | 1 | 34 | 8.00 (480 min) | 272
Total | 68 |  |  |  | 544
* For ease of understanding, burden hours are also provided in actual minutes.

There are no Capital Costs, Operating Costs, and/or Maintenance Costs to report.

Request for Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Send Comments and Requests for Further Information: Send your written comments and requests for more information on the proposed collection or requests to obtain a copy of the data collection instrument(s) and instructions to: Ms. Betty Gould, Reports Clearance Officer, 801 Thompson Avenue, TMP, Suite 450, Rockville, MD 20852; call non-toll free (301) 443-7899; send via facsimile to (301) 443-9879; or send your e-mail requests, comments, and return address to: betty.gould@ihs.gov.

Comment Due Date: Your comments regarding this information collection are best assured of having full effect if received within 60 days of the date of this publication.

Dated: November 10, 2009.
Yvette Roubideaux,
Director, Indian Health Service.

[FR Doc. E9-27540 Filed 11-17-09; 8:45 am]

BILLING CODE 4165-16-M